DEPARTMENT OF ENERGY

Federal Energy Regulatory Commission

[Docket No. CP01-438-000]

Northwest Pipeline Corporation; Notice of Intent To Prepare an Environmental Assessment for the Proposed Rockies Expansion Project and Request for Comments on Environmental Issues

October 3, 2001.

The staff of the Federal Energy Regulatory Commission (FERC or Commission) will prepare an environmental assessment (EA) that will discuss the environmental impacts of the Rockies Expansion Project involving construction and operation of facilities by Northwest Pipeline Corporation (Northwest) in various counties in Wyoming and Idaho.¹ Northwest would construct six loops totaling about 91.1 miles and would modify seven of its existing compressor stations, as described below. This EA will be used by the Commission in its decision-making process to determine whether the project is in the public convenience and necessity.

¹ Northwest's application was filed with the Commission under Section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need to Know?” was attached to the project notice Northwest provided to landowners. This fact sheet addresses a number of typically asked questions, including the use of eminent domain and how to participate in the Commission's proceedings. It is also available for viewing on the FERC Internet Web site (www.ferc.gov).

Summary of the Proposed Project

Northwest wants to expand its physical north flow capacity and seeks authority to construct and operate six loops totaling about 91.1 miles as follows:

• Muddy Creek Loop: 30.6 miles of 30-inch-diameter pipeline in Sweetwater and Lincoln Counties, Wyoming;

• Kemmerer Loop: 15.5 miles of 30-inch-diameter pipeline in Lincoln County;

• Pegram Loop: 11.2 miles of 24-inch-diameter pipeline in Lincoln County;

• Soda Springs Loop: 19.6 miles of 24-inch-diameter pipeline in Bear Lake County, Idaho;

• Lava Loop: 9.4 miles of 24-inch-diameter pipeline in Caribou County, Idaho; and

• Pocatello Loop: 4.8 miles of 24-inch-diameter pipeline in Bannock County, Idaho.

The majority (80.1 percent) of the proposed looping would be adjacent to Northwest's existing mainline. Exceptions, totaling 18.1 miles, would be in areas of difficult terrain, sensitive environmental resources, and heavy residential development. Of this distance, 4.7 miles would be constructed along other utility rights-of-way. Block valves would be installed on each loop. Project maps showing the proposed loops are in appendix 1.²

² The appendices referenced in this notice are not being printed in the Federal Register. Copies of the appendices were sent to all those receiving this notice in the mail. This filing may also be viewed on the web at www.ferc.gov using the “RIMS” link. For instructions on connecting to RIMS refer to the last page of this notice.

Northwest also proposes to modify seven existing compressor stations as follows:

• Green River Compressor Station: compressor uprating of 970 horsepower (hp);

• Muddy Creek Compressor Station: compressor uprating of 2,117 hp;

• Pegram Compressor Station: compressor reconfiguration with no change in horsepower;

• Lava Compressor Station: compressor uprating and installation of a new compressor to increase 5,077 hp;

• Pocatello Compressor Station: compressor reconfiguration with no change in horsepower;

• Burley Compressor Station: replacement of three compressors with two new units to increase 9,400 hp, and installation of two portable units to augment compression by 2,660 hp when needed; and

• Buhl Compressor Station: compressor reconfiguration and installation of a new compressor to increase 4,700 hp.

Compressor station modifications include cooling facilities, foundations, piping, electrical connections, valves, and other appurtenances, as well as the abandonment of certain compression facilities. With the exception of work at the Burley Compressor Station, all modifications, including temporary work areas, would take place within the existing fenced area. Compressor station locations are shown on the first map in appendix 1.

Northwest would use existing public and private access roads for all pipeline and aboveground construction. Maintenance may be required on some of the roads prior to use by construction equipment.

Land Requirements for Construction

Construction of the proposed pipeline facilities would affect about 1,340 acres of land, including temporary extra work spaces. An additional 274 acres would be used for nine pipe storage and contractor yards. These locations are generally on or adjacent to existing rights-of-way (pipeline and road) or compressor station yards. Minor modifications of Northwest's valve yards and meter station interconnections along the pipeline route would be constructed within the permanent right-of-way and would not require additional space. Of the 1,340 acres needed for pipeline construction, about 223 acres would be retained as permanent pipeline right-of-way.

A majority (1201 acres, or 89.7 percent) of the land crossed by the facilities would be either cropland, pasture, or rangeland. Residential construction would disturb about 6.9 acres, and would be limited to construction of the Pocatello Loop.

The only disturbance associated with the compressor station modifications that would occur outside of the existing fenced locations would be the expansion at the Burley Compressor Station site. At this location, Northwest would expand the permanent fenced station yard about 1.7 acres and use an additional 1.9 acres for temporary work space.

The EA Process

The National Environmental Policy Act (NEPA) requires the Commission to take into account the environmental impacts that could result from an action whenever it considers the issuance of a Certificate of Public Convenience and Necessity. NEPA also requires us ³ to discover and address concerns the public may have about proposals. We call this “scoping.” The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

• geology and soils

• water resources, fisheries, and wetlands

• vegetation and wildlife

• cultural resources

• public safety

• land use

• endangered and threatened species

• air quality and noise

• residential construction

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

Currently Identified Environmental Issues

We have already identified several issues we think deserve attention based on a preliminary review of the proposed facilities and the environmental information provided by Northwest. This preliminary list of issues may be changed based on your comments and our analysis.

• Impact on residents within 50 feet of construction, and impacts to agricultural areas.

• Effects from the addition of 24,924 hp of compression.

• Possible impact on Federal, state, and BLM-listed species.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please follow these instructions carefully to ensure that your comments are received in time and properly recorded:

• Send an original and two copies of your letter to: David P. Boergers, Secretary, Federal Energy Regulatory Commission, 888 First St. NE, Room 1A, Washington, DC 20426.

• Label one copy of the comments for the attention of Gas Group 1.

• Reference Docket No. CP01-438-000.

• Mail your comments so that they will be received in Washington, DC on or before November 9, 2001.

Comments, protests and interventions may be filed electronically via the Internet in lieu of paper. See, 18 CFR 385.2001(a)(1)(iii) and the instructions on the Commission's Web site under the “e-Filing” link.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

You do not need intervenor status to have your environmental comments considered. Additional information about the proposed project is available from the Commission's Office of External Affairs at (202) 208-1088 or on the FERC Web site (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 01-25361 Filed 10-9-01; 8:45 am]

BILLING CODE 6717-01-P